DEPARTMENT OF EDUCATION

Office of Special Education and Rehabilitative Services; Personnel Development To Improve Services and Results for Children With Disabilities

AGENCY: Department of Education.

ACTION: Correction; Notice inviting applications for new awards for fiscal year (FY) 2009.

SUMMARY: On July 21, 2008, we published in the Federal Register (73 FR 42506) a notice inviting applications for new awards for FY 2009 under certain Personnel Development to Improve Services and Results for Children with Disabilities competitions authorized under the Individuals with Disabilities Education Act. We are correcting the Deadline for Transmittal of Applications and Deadline for Intergovernmental Review dates in the notice published on July 21, 2008 (73 FR 42506-42515).

In the chart on page 42511, third column, the “Deadline for Transmittal of Applications” for the 84.325D Preparation of Leadership Personnel competition (as published) is corrected to read “September 29, 2008” and in the fourth column, the “Deadline for Intergovernmental Review” for the 84.325D competition is corrected to read “November 28, 2008”.

In the chart on page 42511, third column, the “Deadline for Transmittal of Applications” for the 84.325K Combined Personnel Preparation competition (as published) is corrected to read “October 10, 2008” and in the fourth column, the “Deadline for Intergovernmental Review” for the 84.325K competition is corrected to read “December 09, 2008”.

In the chart on page 42512, third column, the “Deadline for Transmittal of Applications” for the 84.325T Special Education Preservice Program Improvement Grants competition (as published) is corrected to read “September 26, 2008” and in the fourth column, the “Deadline for Intergovernmental Review” for the 84.325T competition is corrected to read “November 25, 2008”.

In the chart on page 42511, tenth column, the contact person listed for the 84.325K Combined Personnel Preparation competition (as published) is corrected to read, Ernest Hairston, (202) 245-7366, Room 4070.

FOR FURTHER INFORMATION CONTACT: Debra Sturdivant, U.S. Department of Education, 400 Maryland Avenue, SW., Room 4104, Potomac Center Plaza, Washington, DC 20202-2600. Telephone: (202) 245-7539.

If you use a telecommunications device for the deaf (TDD), call the Federal Relay Service (FRS), toll-free, at 1-800-877-8339.

Individuals with disabilities can obtain this document in an alternative format (e.g., Braille, large print, audiotape, or computer diskette) on request to the contact person listed under FOR FURTHER INFORMATION CONTACT.

Electronic Access to This Document: You can view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: August 12, 2008.
Tracy R. Justesen,
Assistant Secretary for Special Education and Rehabilitative Services.

[FR Doc. E8-18975 Filed 8-14-08; 8:45 am]

BILLING CODE 4000-01-P